DEPARTMENT OF JUSTICE

Antitrust Division

Notice Pursuant to the National Cooperative Research and Production Act of 1993—Cooperative Research Group Separation Technology Research (STAR) Program: Phase 3 (“STAR Phase 3”)

Notice is hereby given that, on August 15, 2023, pursuant to section 6(a) of the National Cooperative Research and Production Act of 1993, 15 U.S.C. 4301 et seq. (“the Act”), Cooperative Research Group Separation Technology Research (STAR) Program: Phase 3 (“STAR Phase 3”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: AMISTCO Separation Products dba AMACS, Houston, TX; Saudi ARAMCO dba ARAMCO Services Company, Houston, TX; Chevron Technical Center, Houston, TX; ExxonMobil Technology and Engineering Company, Spring, TX; Koch-Glitsch, Wichita, KS; Linde, Pullach, GERMANY; and Sulzer Chemtech, Winterthur, SWITZERLAND.

The general area of Separation Technology Research (STAR) Program: Phase 3's planned activities is to systematically research, test, and qualify separation equipment and increase fundamental knowledge in separation.

Suzanne Morris,
Deputy Director Civil Enforcement Operations, Antitrust Division.

[FR Doc. 2023-22249 Filed 10-5-23; 8:45 am]

BILLING CODE P